DEPARTMENT OF TRANSPORTATION

Federal Aviation Administration

Notice of Passenger Facility Charge (PFC) Approvals and Disapprovals

AGENCY: Federal Aviation Administration (FAA), DOT.

ACTION: Monthly Notice of PFC Approvals and Disapprovals. In May 2008, there were 11 applications approved. Additionally, 16 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. No. 101-508) and Part 158 of the Federal Aviation Regulations (14 CFR Part 158). This notice is published pursuant to paragraph d of § 158.29.

PFC Applications Approved

Public Agency: Panama City-Bay County Airport and Industrial District, Panama City, Florida.

Application Number: 07-02-C-00-PFN.

Application Type: Impose and use a PFC.

PFC Level: $4.50.

Total PFC Revenue Approved in This Decision: $41,968,640.

Earliest Charge Effective Date: April 1, 2009.

Estimated Charge Expiration Date: July 1, 2039.

Class of Air Carriers Not Required To Collect PFC's:None.

Brief Description of Projects Approved for Collection and Use: Site development. Primary runway paving. Paving, lighting, and navigational aids. Terminal building. Utilities.

Brief Description of Project Partially Approved for Collection and Use: Facilities.

Determination: The FAA determined that two of the project elements were not eligible for PFC funding.

Decision Date: May 2, 2008.

FOR FURTHER INFORMATION CONTACT: Susan Moore, Orlando Airports District Office, (407) 812-6331, extension 120.

Public Agency: City of Rapid City, South Dakota.

Application Number: 08-05-C-00-RAP.

Application Type: Impose and use a PFC.

PFC Level: $4.50.

Total PFC Revenue Approved in This Decision: $729,192.

Earliest Charge Effective Date: September 1, 2008.

Estimated Charge Expiration Date: June 1, 2009.

Class of Air Carriers Not Required To Collect PFC's:None.

Brief Description of Projects Approved for Collection and Use: General aviation security and lighting upgrades. Midfield development and perimeter fencing. Access control/security upgrades. Acquire two snow removal equipment vehicles and deicing truck. Design and construct general aviation area/access road pavement rehabilitation. Master plan update phase 2. Acquisition and installation of boarding bridge. PFC application administration.

Decision Date: May 2, 2008.

FOR FURTHER INFORMATION CONTACT: Thomas Schauer, Bismarck Airport District Office, (701) 323-7380.

Public Agency: Central West Virginia Regional Airport Authority, Charleston, West Virginia.

Application Number: 08-11-C-00-CRW.

Application Type: Impose and use a PFC.

PFC Level: $4.50.

Total PFC Revenue Approved in This Decision: $1,582,686.

Earliest Charge Effective Date: September 1, 2011.

Estimated Charge Expiration Date: November 1, 2012.

Class of Air Carriers Not Required To Collect PFC's:None.

Brief Description of Projects Approved for Collection and Use: Runway 5 obstruction removal. Rehabilitate taxiways A and B. Update airport master plan. Fire hydrant system. Dynamic friction tester. Purchase emergency stairs. Main terminal expansion.

Decision Date: May 2, 2008.

FOR FURTHER INFORMATION CONTACT: Matthew DiGiulian, Beckley Airports District Office, (304) 252-6216.

Public Agency: Port of Bellingham, Bellingham, Washington.

Application Number: 08-09-C-00-BLI.

Application Type: Impose and use a PFC.

PFC Level: $4.50.

Total PFC Revenue Approved in This Decision: $2,548,830.

Earliest Charge Effective Date: September 1, 2012.

Estimated Charge Expiration Date: September 1, 2014.

Class of Air Carriers Not Required To Collect PFC's:Part 135 air taxi operators—nonscheduled/on-demand air carriers.

Determination: Approved. Based on information contained in the public agency's application, the FAA has determined that the proposed class accounts for less than 1 percent of the total annual enplanements at Bellingham International Airport.

Brief Description of Projects Approved for Collection and Use:Acquire interactive airport training equipment. Design and construction of hardstand. Terminal building modifications to support security changes. Plans and specifications for taxiway D rehabilitation. Design and construction of taxiway E. Plans and specifications—acquisition of snow removal equipment. Rehabilitate terminal apron, phase 2. Runway 16/34 crack/fog seal, phase 2. Taxilane construction, phase 2. Construct apron taxiway. Construct taxiway C, phase 2. Design and construction of aircraft rescue and firefighting building. Acquire security equipment.

Brief Description of Project Approved for Collection:Plans and specifications for terminal rehabilitation.

Decision Date: May 8, 2008.

FOR FURTHER INFORMATION CONTACT: Trang Tran, Seattle Airports District Office, (425) 227-1662.

Public Agency: City of Manhattan, Kansas.

Application Number: 08-02-C-00-MHK.

Application Type: Impose and use a PFC.

PFC Level: $4.50.

Total PFC Revenue Approved in This Decision: $601,007.

Earliest Charge Effective Date: April 1, 2009.

Estimated Charge Expiration Date: June 1, 2018.

Class of Air Carriers Not Required To Collect PFC's:On-demand air taxi/commercial operations.

Determination: Approved. Based on information contained in the public agency's application, the FAA has determined that the proposed class accounts for less than 1 percent of the total annual enplanements at Manhattan Regional Airport.

Brief Description of Projects Approved for Collection and Use:Taxiway A extension. Aircraft rescue and firefighting building. Acquire snow removal equipment. Replace deicer truck. Install wildlife fence. Replace mobile stairs. Environmental assessment. Contract air traffic control tower construction. Airfield lighting and electrical improvements. Acquire displacement plow.

Decision Date: May 9, 2008.

FOR FURTHER INFORMATION CONTACT: Mike Rottingham, Central Region Airports Division, (816) 329-2627.

Public Agency: Texarkana Airport Authority, Texarkana, Arkansas.

Application Number: 08-06-C-00-TXK.

Application Type: Impose and use a PFC.

PFC Level: $4.50.

Total PFC Revenue Approved in This Decision: $564,071.

Earliest Charge Effective Date: July 1, 2008.

Estimated Charge Expiration Date: April 1, 2010.

Class of Air Carriers Not Required To Collect PFC's:Air taxi commercial operators, air carriers operating under Part 135 and filing FAA Form 1800-31.

Determination: Approved. Based on information contained in the public agency's application, the FAA has determined that the proposed class accounts for less than 1 percent of the total annual enplanements at Texarkana Regional Airport.

Brief Description of Projects Approved for Collection and Use: Rehabilitate terminal building. PFC administrative costs.

Decision Date: May 19, 2008.

FOR FURTHER INFORMATION CONTACT: Paul Burns, Arkansas/Oklahoma Airports Development Office, (817) 222-5648.

Public Agency: Wichita Airport Authority, Wichita, Kansas.

Application Number: 08-06-C-00-ICT.

Application Type: Impose and use a PFC.

PFC Level: $4.50.

Total PFC Revenue Approved in This Decision: $3,630,000.

Earliest Charge Effective Date: October 1, 2008.

Estimated Charge Expiration Date: October 1, 2009.

Class of Air Carriers Not Required To Collect PFC's:None.

Brief Description of Project Approved for Collection and Use: Security improvements.

Decision Date: May 20, 2008.

FOR FURTHER INFORMATION CONTACT: Jeffrey Deitering, Central Region Airports Division, (816) 329-2637.

Public Agency: Lafayette Airport Commission, Lafayette, Louisiana.

Application Number: 08-06-C-00-LFT.

Application Type: Impose and use a PFC.

PFC Level: $4.50.

Total PFC Revenue Approved in This Decision: $3,950,000.

Earliest Charge Effective Date: August 1, 2008.

Estimated Charge Expiration Date: May 1, 2012.

Class of Air Carriers Not Required To Collect PFC's:Air taxi commercial operators or carriers filing FAA Form 1800-31.

Determination: Approved. Based on information contained in the public agency's application, the FAA has determined that the proposed class accounts for less than 1 percent of the total annual enplanements at Lafayette Regional Airport.

Brief Description of Projects Approved for Collection and Use: Airport security system upgrade. Replace precision approach path indicator systems, runways 4L, 4R, 22L, 22R, 11, and 29. PFC administrative fees.

Decision Date: May 20, 2008.

FOR FURTHER INFORMATION CONTACT: Ilia Quinones, Louisiana/New Mexico Airports Development Office, (817) 222-5646.

Public Agency: Detroit Metropolitan Wayne County Airport Authority, Detroit, Michigan.

Application Number: 08-07-C-00-DTW.

Application Type: Impose and use a PFC.

PFC Level: $4.50.

Total PFC Revenue Approved in This Decision: $257,020,320.

Earliest Charge Effective Date: October 1, 2032.

Estimated Charge Expiration Date: August 1, 2034.

Class of Air Carriers Not Required To Collect PFC's:All air taxi/commercial operators filing FAA Form 1800-31.

Determination: Approved. Based on information contained in the public agency's application, the FAA has determined that the proposed class accounts for less than 1 percent of the total annual enplanements at Detroit Metropolitan Wayne County Airport (DTW).

Brief Description of Project Approved for Collection at DTW and USE at DTW and Willow Run Airport at a $3.00 PFC Level:Airfield snow removal vehicles and equipment.

Brief Description of Projects Approved for Collection at DTW and Use at DTW at a $3.00 PFC Level: Master plan update. Runway surface monitor system on runway 4L/22R. McNamara terminal in-line explosive detection system.

Brief Description of Projects Approved for Collection at DTW and Use at DTW at a $4.50 PFC Level: Infill island at taxiway Y-10. Runway and taxiway improvements.

Brief Description of Project Approved for Collection at DTW and Use at DTW and Willow Run Airport at a $3.00 PFC Level:Rehabilitate terminal apron, phase 2. Runway 16/34 crack/fog seal, phase 2. Taxilane construction, phase 2. Construct apron taxiway. Construct taxiway C, phase 2. Design and construction of aircraft rescue and firefighting building. Acquire security equipment.

Brief Description of Project Approved for Collection at a $4.50 PFC Level: Reconstruct runway 4R/22L.

Decision Date: May 27, 2008.

FOR FURTHER INFORMATION CONTACT: Jason Watt, Detroit Airports District Office, (734) 229-2906.

Public Agency: Metropolitan Airports Commission, Minneapolis, Minnesota.

Application Number: 08-10-C-00-MSP.

Application Type: Impose and use a PFC.

PFC Level: $4.50.

Total PFC Revenue Approved in This Decision: $128,448,231.

Earliest Charge Effective Date: February 1, 2019.

Estimated Charge Expiration Date: August 1, 2020.

Class of Air Carriers Not Required To Collect PFC's:All air taxi/commercial operators filing FAA Form 1800-31.

Determination: Approved. Based on information contained in the public agency's application, the FAA has determined that the proposed class accounts for less than 1 percent of the total annual enplanements at Minneapolis-St. Paul International Airport.

Brief Description of Projects Approved for Collection and Use at a $3.00 PFC Level:Airside bituminous rehabilitation. Taxiway P reconstruction. Runway 12L/30R overlay. Miscellaneous airfield construction. Material storage building door replacement.

Brief Description of Projects Approved for Collection and Use at a $4.50 PFC Level: Taxiway C-D complex. Pavement rehabilitation—runway 12L/30R segment 2. Lindbergh terminal in-line bag screening handling. Lindbergh terminal jet bridge/luggage handling system.

Brief Description of Project Partially Approved for Collection and Use at a $3.00 PFC Level: Pavement rehabilitation 2007 and 2010.

Determination: The fuel hydrant system is not PFC eligible because it does not meet the requirements of § 158.15(b)((6). The approved PFC amount was reduced from that requested by the cost of this ineligible element.

Brief Description of Project Partially Approved for Collection and Use at a $4.50 PFCLevel: Concourse G site preparation.

Determination: The approved PFC amount was reduced from that requested due to updated cost estimates which show that the cost will be less than originally estimated.

Brief Description of Withdrawn Projects:North side storm sewer.

Date of Withdrawal: May 5, 2008. Runway 12L snow melting pad expansion.

Date of Withdrawal: March 4, 2008.

Decision Date: May 28, 2008.

FOR FURTHER INFORMATION CONTACT: Nancy Nistler, Minneapolis Airports District Office, (612) 713-4353.

Public Agency: City of Albany, Georgia.

Application Number: 08-04-C-00-ABY.

Application Type: Impose and use a PFC.

PFC Level: $4.50.

Total PFC Revenue Approved in This Decision: $341,518.

Earliest Charge Effective Date: July 1, 2008.

Estimated Charge Expiration Date: August 1, 2010.

Class of Air Carriers Not Required To Collect PFC's:Air taxi/commercial operators filing FAA Form 1800-31.

Determination: Approved. Based on information contained in the public agency's application, the FAA has determined that the proposed class accounts for less than 1 percent of the total annual enplanements at Southwest Georgia Regional Airport.

Brief Description of Projects Approved for Collection and Use: Acquire aircraft rescue and firefighting suits. Construct cargo apron—phase II. Groove runway 16/34. Install runway distance-to-go signs. Install runway visual guidance signs. Acquire equipment (precision approach path indicators and runway end identifier lights). Construct cargo apron—phase III. Rehabilitate taxiway (design). Reconstruct taxiway D. Improve access road. Replace security gates.

Decision Date: May 29, 2008.

FOR FURTHER INFORMATION CONTACT: Aimee McCormick, Atlanta Airports District Office, (404) 305-7143.

Amendment to PFC Approvals
Amendment no. city, state | Amendment approved date | Original approved net PFC revenue | Amended approved net PFC revenue | Original estimated charge exp. date | Amended estimated charge exp. date
05-05-C-01-LAX Los Angeles, CA | 04/25/08 | $267,249,968 | $697,249,968 | 10/01/09 | 04/01/11
98-04-C-03-CLM Port Angeles, WA | 05/02/08 | 100,428 | 85,444 | 12/01/99 | 08/01/99
00-05-C-02-LSE LaCrosse, WI | 05/06/08 | 689,028 | 673,014 | 08/01/02 | 10/01/01
99-03-C-02-TYR Tyler, TX | 05/08/08 | 1,123,700 | 1,113,032 | 08/01/08 | 08/01/08
98-02-C-02-ACT Waco, TX | 05/08/08 | 2,081,400 | 1,857,193 | 12/01/08 | 01/01/08
02-09-C-05-MCO Orlando, FL | 05/09/08 | 163,040,998 | 165,358,198 | 10/01/12 | 10/01/12
06-01-C-01-ITO Hilo, HI | 05/14/08 | 781,000 | 467,293 | 07/01/11 | 10/01/08
06-02-C-01-HNL Honolulu, HI | 05/14/08 | 78,050,000 | 46,699,392 | 07/01/11 | 10/01/08
06-02-C-01-OGG Kahalui, HI | 05/14/08 | 15,000,000 | 9,573,226 | 07/01/11 | 10/01/08
06-02-C-01-KOA Kona, HI | 05/14/08 | 6,281,000 | 3,758,090 | 07/01/11 | 10/01/08
06-02-C-01-LIH Lihue, HI | 05/14/08 | 3,346,000 | 2,002,001 | 07/01/11 | 10/01/08
06-10-C-02-PHL Philadelphia, PA | 05/14/08 | 198,950,000 | 238,950,000 | 09/01/17 | 04/01/18
05-01-C-02-PIE St. Petersburg, FL | 05/15/08 | 3,357,639 | 4,051,039 | 02/01/09 | 02/01/09
98-04-C-02-MSP Minneapolis, MN | 05/20/08 | 55,471,897 | 47,800,645 | 05/01/01 | 04/01/01
00-05-C-03-MSP Minneapolis, MN | 05/20/08 | 122,873,838 | 112,533,104 | 07/01/03 | 02/01/03
97-02-C-04-DSM Des Moines, IA | 05/23/08 | 9,874,583 | 9,694,565 | 05/01/02 | 05/01/02

Issued in Washington, DC on June 3, 2008.
Joe Hebert,
Manager, Financial Analysis and Passenger Facility Charge Branch.

[FR Doc. E8-13212 Filed 6-17-08; 8:45 am]

BILLING CODE 4910-13-M